DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration announces that OMB extended its approval for a number of information collection requirements found in a number of OSHA's standards and regulations. OSHA sought approval of these requirements under the Paperwork Reduction Act of 1995 (PRA), and, as required by that Act, is announcing the approval numbers and expiration dates for these requirements and regulations.

DATES: This notice is applicable October 22, 2018.

FOR FURTHER INFORMATION CONTACT: Seleda Perryman or Theda Kenney, Directorate of Standards and Guidance, OSHA, U.S. Department of Labor, telephone (202) 693-2222.

SUPPLEMENTARY INFORMATION: In a series of Federal Register notices, the various information collection (paperwork) requirements in its safety and health standards pertaining to general industry, construction, shipyard employment, regulations pertaining to Voluntary Protection Programs, and Safe + Sound Programs (i.e., 29 CFR parts 1904, 1910, 1915, and 1926). In these Federal Register announcements, the agency provided 60-day comment periods for the public to respond to OSHA's burden hour and cost estimates.

In accordance with the PRA (44 U.S.C. 3501-3520), OMB approved these information collection requirements. The table below provides the following information for each of these requirements approved by OMB: the title of the Federal Register notice; the Federal Register reference (date, volume, and leading page); OMB's Control Number; and the new expiration date.

Title of the information collection request | Date of Federal Register publication, Federal Register reference, and OSHA Docket No. | OMB control No. | Expiration date
Acrylonitrile (29 CFR 1910.1045) | March 8, 2018, 83 FR 9868, Docket No. OSHA-2011-0195 | 1218-0126 | 08/31/2021
Coke Oven Emissions (29 CFR 1910.1029) | January 17, 2018, 83 FR 2465, Docket No. OSHA-2011-0181 | 1218-0128 | 07/31/2021
Confined Spaces in Construction (29 CFR part 1926, subpart AA) | February 22, 2018, 83 FR 7782, Docket No. OSHA-2017-0014 | 1218-0258 | 08/31/2021
Construction Standards on Posting Emergency Telephone Numbers and Floor Load Limits (29 CFR 1926.50 and 1926.250) | October 18, 2017, 82 FR 48531, Docket No. OSHA-2011-0032 | 1218-0093 | 02/28/2021
Excavations (Design of Cave-In Protection Systems) (29 CFR part 1926, subpart P) | December 12, 2017, 82 FR 58450, Docket No. OSHA-2011-0057 | 1218-0137 | 04/30/2021
Fire Brigades (29 CFR 1910.156) | August 8, 2017, 82 FR 37118, Docket No. OSHA-2011-0009 | 1218-0075 | 12/31/2020
Fire Protection in Shipyard Employment (29 CFR part 1915, subpart P) | May 16, 2017, 82 FR 22563, Docket No. OSHA-2010-0010 | 1218-0248 | 02/28/2021
Forging Machines (29 CFR 1910.218) | October 16, 2017, 82 FR 48119, Docket No. OSHA-2011-0064 | 1218-0228 | 05/31/2021
General Provisions and Confined and Enclosed Spaces and Other Dangerous Atmospheres in Shipyard Employment Standards (29 CFR part 1915) | October 16, 2017, 82 FR 48121, Docket No. OSHA-2011-0034 | 1218-0011 | 05/31/2021
Grain Handling Facilities (29 CFR 1910.272) | August 18, 2017, 82 FR 39459, Docket No. OSHA-2011-0028 | 1218-0206 | 02/28/2021
Hazardous Energy Control (Lockout/Tagout) (29 CFR 1910.147) | November 1, 2017, 82 FR 50689, Docket No. OSHA-2011-0033 | 1218-0150 | 04/30/2021
Ionizing Radiation (29 CFR 1910.1096) | August 8, 2017, 82 FR 37117, Docket No. OSHA-2010-0030 | 1218-0103 | 12/31/2020
Material Hoists, Personnel Hoists, and Elevators (29 CFR 1926.552) | August 8, 2017, 82 FR 37120, Docket No. OSHA-2010-0052 | 1218-0231 | 04/30/2021
Mechanical Power Presses (29 CFR 1910.217(e)(1)) | August 10, 2017, 82 FR 37467, Docket No. OSHA-2010-0026 | 1218-0229 | 02/28/2021
Powered Industrial Trucks (29 CFR 1910.178) | September 28, 2017, 82 FR 45317, Docket No. OSHA-2011-0062 | 1218-0242 | 04/30/2021
Powered Platforms for Building Maintenance (29 CFR 1910.66) | May 22, 2017, 82 FR 23312, Docket No. OSHA-2010-0048 | 1218-0121 | 11/30/2020
Recordkeeping and Reporting Occupational Injuries and Illnesses (29 CFR part 1904) | September 14, 2017, 82 FR 43255, Docket No. OSHA-2010-0055 | 1218-0176 | 06/30/2021
Respiratory Protection Standard (29 CFR 1910.134) | January 18, 2018, 83 FR 2676, Docket No. OSHA-2011-0027 | 1218-0099 | 08/31/2021
Safe + Sound Campaign | December 12, 2017, 82 FR 58448, Docket No. OSHA-2017-0013 | 1218-0269 | 05/31/2021
Servicing Multi-Piece and Single Piece Rim Wheels (29 CFR 1910.177) | December 26, 2017, 82 FR 61035, Docket No. OSHA-2011-0189 | 1218-0219 | 07/31/2021
Steel Erection (29 CFR part 1926, subpart R) | September 28 , 2017, 82 FR 45314, Docket No. OSHA-2011-0055 | 1218-0241 | 02/28/2021
Voluntary Protection Program | August 30, 2017, 82 FR 41294, Docket No. OSHA-2011-0056 | 1218-0239 | 04/30/2021

In accordance with 5 CFR 1320.5(b), an agency cannot conduct, sponsor, or require a response to a collection of information unless the collection displays a valid OMB control number and the agency informs respondents that they need not respond to the collection of information.

Authority and Signature

Loren Sweatt, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on October 15, 2018.
Loren Sweatt,
Deputy Assistant Secretary of Labor for Occupational Safety and Health.

[FR Doc. 2018-22917 Filed 10-19-18; 8:45 am]

BILLING CODE 4510-26-P